OFFICE OF THE UNITED STATES TRADE REPRESENTATIVE

Reallocation of Unused Fiscal Year 2015 Tariff-Rate Quota Volume for Raw Cane Sugar

AGENCY: Office of the United States Trade Representative.

ACTION: Notice.

SUMMARY: The Office of the United States Trade Representative (USTR) is providing notice of country-by-country reallocations of the FY 2015 in-quota quantity of the World Trade Organization (WTO) tariff-rate quota (TRQ) for imported raw cane sugar.

DATES: June 8, 2015.

ADDRESSES: Inquiries may be mailed or delivered to Ronald Baumgarten, Director of Agricultural Affairs, Office of Agricultural Affairs, Office of the United States Trade Representative, 600 17th Street NW., Washington, DC 20508.

FOR FURTHER INFORMATION CONTACT: Ronald Baumgarten, Office of the United States Trade Representative, Office of Agricultural Affairs, telephone: 202-395-9583 or facsimile: 202-395-4579.

SUPPLEMENTARY INFORMATION: Pursuant to Additional U.S. Note 5 to Chapter 17 of the Harmonized Tariff Schedule of the United States (HTS), the United States maintains WTO TRQs for imports of raw cane and refined sugar.

Section 404(d)(3) of the Uruguay Round Agreements Act (19 U.S.C. 3601(d)(3)) authorizes the President to allocate the in-quota quantity of a TRQ for any agricultural product among supplying countries or customs areas. The President delegated this authority to the United States Trade Representative under Presidential Proclamation 6763 (60 FR 1007).

On September 2, 2014, the Secretary of Agriculture established the FY 2015 TRQ for imported raw cane sugar at the minimum to which the United States is committed pursuant to the World Trade Organization (WTO) Uruguay Round Agreements (1,117,195 metric tons raw value (MTRV)). On September 9, 2014, USTR provided notice of country-by-country allocations of the FY 2015 in-quota quantity of the WTO TRQ for imported raw cane sugar. Based on consultation with quota holders, USTR has determined to reallocate 157,937 MTRV of the original TRQ quantity from those countries that are unable to fill their FY 2015 allocated raw cane sugar quantities. USTR is allocating the 157,937 MTRV to the following countries in the amounts specified below:

Country | FY 2015 Reallocation
Argentina | 11,263
Australia | 21,739
Barbados | 1,834
Belize | 2,881
Brazil | 37,978
Colombia | 6,286
Costa Rica | 3,929
Ecuador | 2,881
El Salvador | 6,810
Fiji | 2,357
Guatemala | 12,572
Guyana | 3,143
Honduras | 2,619
India | 2,095
Jamaica | 2,881
Mozambique | 3,405
Nicaragua | 5,500
Peru | 10,739
South Africa | 6,024
Swaziland | 4,191
Thailand | 3,667
Zimbabwe | 3,143

These allocations are based on the countries' historical shipments to the United States. The allocations of the raw cane sugar WTO TRQ to countries that are net importers of sugar are conditioned on receipt of the appropriate verifications of origin. Certificates of quota eligibility must accompany imports from any country for which an allocation has been provided.

Conversion factor: 1 metric ton = 1.10231125 short tons.

Michael B.G. Froman,
United States Trade Representative.

[FR Doc. 2015-13887 Filed 6-5-15; 8:45 am]

BILLING CODE 3190-F5-P